DEPARTMENT OF THE INTERIOR

National Park Service

[NPS-WASO-NAGPRA-NPS0038926; PPWOCRADN0-PCU00RP14.R50000]

Notice of Intended Repatriation: Yale Peabody Museum, Yale University, New Haven, CT

AGENCY: National Park Service, Interior.

ACTION: Notice.

SUMMARY: In accordance with the Native American Graves Protection and Repatriation Act (NAGPRA), the Yale Peabody Museum, Yale University, intends to repatriate certain cultural items that meet the definition of unassociated funerary objects and that have a cultural affiliation with the Indian Tribes or Native Hawaiian organizations in this notice.

DATES: Repatriation of the cultural items in this notice may occur on or after November 21, 2024.

ADDRESSES: Professor David Skelly, Director, Yale Peabody Museum, P.O. Box 208118, New Haven, CT 06520-8118, telephone (203) 432-3752, email david.skelly@yale.edu.

SUPPLEMENTARY INFORMATION: This notice is published as part of the National Park Service's administrative responsibilities under NAGPRA. The determinations in this notice are the sole responsibility of the Yale Peabody Museum, and additional information on the determinations in this notice, including the results of consultation, can be found in the summary or related records. The National Park Service is not responsible for the determinations in this notice.

Abstract of Information Available

A total of 473 cultural items have been requested for repatriation.

The one unassociated funerary object is a soapstone pendant removed by Walter Sheppard from the area of Avalon on Santa Catalina Island within Los Angeles County on an unknown date. In 1915, Sheppard donated the item to the Yale Peabody Museum.

The three unassociated funerary objects are one lot of bone rings and bone cylinders attributed to grave 1, one lot of glass and shell beads, pearls, an arrowpoint, a sea otter jaw, and fish vertebrae attributed to grave 2, and one lot of glass, shell, and stone beads, shell ornaments, stone pendants, knives, arrowheads, microliths, ochre fragments, basketry fragments, bone items, faunal remains, soapstone items. W. George Washington Harford removed the items from San Miguel Island in Santa Barbara County circa 1871 and donated the material to the Yale Peabody Museum in 1872.

The four unassociated funerary objects are one lot of unworked shells, one fishhook, one lot of bone fragments, and one lot of glass and shell beads removed from Dos Pueblos in Santa Barbara County by George Bird Grinnell and donated to the Yale Peabody Museum in 1876.

The eight unassociated funerary objects are four soapstone pipes, one stone mortar, one stone pestle, and two soapstone ollas removed from La Cieneguitas in Santa Barbara County by George Bird Grinnell and donated to the Yale Peabody Museum in 1876.

The seven unassociated funerary objects are two soapstone ollas, two stone mortars, and three stone pestles removed from La Patera in Santa Barbara County by George Bird Grinnell and donated to the Yale Peabody Museum in 1876.

The two unassociated funerary objects are one stone mortar and one stone pestle removed from Linville Mound in Santa Barbara County by George Bird Grinnell and donated to the Yale Peabody Museum in 1876.

The three unassociated funerary objects are two stone mortars and one stone bowl removed from the area of Santa Barbara in Santa Barbara County by George Bird Grinnell and donated to the Yale Peabody Museum in 1876.

The one unassociated funerary object is a stone mortar. Circa 1864-1872, Benjamin Silliman, Jr., removed the item from Santa Catalina Island within Los Angeles County and donated it to the Yale Peabody Museum in 1877.

The 371 lots of unassociated funerary items are stone items used in making red ochre, quartz pendants, stone pipes, shell cups, a brass cup, pebbles, stone polishers, selenite, hammerstones, grinding stones, plummets, stone netsinkers, adzes, pestles, mortars, paint mortars, soapstone bowls, soapstone vessel fragments, metates, bone whistles with asphaltum, unworked faunal remains, horn implements, fossilized faunal remains, perforated eagle claws, ceramic vessels and sherds, bone awls, bone needles, metal buttons with glass beads, worked shell, glass, shell, and stone beads, shell pendants, shell gorgets, asphaltum, ochre, netting for fishing, fabric, a leather belt, a leather purse, soapstone root brushes, iron and shell fishhooks, an asphaltum water bottle, brass items, fragments of an unknown material. In 1875, Reverend Stephen Bowers removed these items from graves in the region of Santa Barbara in Santa Barbara County. Bowers sold the cultural items to Elias Root Beadle circa 1876. The items were donated to the Yale Peabody Museum in 1916 by Herbert H. Beadle.

The 38 lots of unassociated funerary objects removed from Mescalitan Island in Santa Barbara County by Reverend Stephen Bowers in 1875 are stone items, plummets, a carved polished stone head, an unfinished soapstone item, quartz set in asphaltum, mortar, pestles, glass, shell, and stone beads and pendants, a pipe, arrow-shaft smoothers, mica, stone paint pots, worked shell, incised bone, and unmodified stones. Bowers sold the cultural items to Elias Root Beadle circa 1876. The items were donated to the Yale Peabody Museum in 1916 by Herbert H. Beadle.

The 30 lots of unassociated funerary objects removed from the Sisquoc River region near the city of Santa Barbara in Santa Barbara County by Reverend Stephen Bowers in 1875 are projectile points, drills, scrapers, hammerstones, bone whistles with asphaltum, shell, glass, and stone beads, bone fishhooks, shell ornaments, and a fragment of a soapstone vessel. Bowers sold the cultural items to Elias Root Beadle circa 1876. The items were donated to the Yale Peabody Museum in 1916 by Herbert H. Beadle.

The one unassociated funerary object removed from Pisarro Rancho in Santa Barbara County by Reverend Stephen Bowers in 1875 is a stone implement. Bowers sold the cultural items to Elias Root Beadle circa 1876. The items were donated to the Yale Peabody Museum in 1916 by Herbert H. Beadle.

The one unassociated funerary object removed from Santa Ynez in Santa Barbara County by Reverend Stephen Bowers in 1875 is a metal boot spur. Bowers sold the cultural items to Elias Root Beadle circa 1876. The items were donated to the Yale Peabody Museum in 1916 by Herbert H. Beadle.

The two unassociated funerary objects removed from Guadalupe in San Luis Obispo County by Reverend Stephen Bowers in 1875 are two stone knives. Bowers sold the cultural items to Elias Root Beadle circa 1876. The items were donated to the Yale Peabody Museum in 1916 by Herbert H. Beadle.

The one unassociated funerary object removed from Pesino Rancheria in San Luis Obispo County by Reverend Stephen Bowers in 1875 is a lot of shell beads. Bowers sold the cultural items to Elias Root Beadle circa 1876. The items were donated to the Yale Peabody Museum in 1916 by Herbert H. Beadle.

Determinations

The Yale Peabody Museum has determined that:

• The 473 unassociated funerary objects described in this notice are reasonably believed to have been placed intentionally with or near human remains, and are connected, either at the time of death or later, to a death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Santa Ynez Band of Chumash Mission Indians of the Santa Ynez Reservation, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after November 21, 2024. If competing requests for repatriation are received, the Yale Peabody Museum must determine the most appropriate requestor prior to repatriation. Requests for joint repatriation of the cultural items are considered a single request and not competing requests. The Yale Peabody Museum is responsible for sending a copy of this notice to the Indian Tribes identified in this notice and to any other consulting parties.

Authority: Native American Graves Protection and Repatriation Act, 25 U.S.C. 3004 and the implementing regulations, 43 CFR 10.9.

Dated: October 11, 2024.
Melanie O'Brien,
Manager, National NAGPRA Program.

[FR Doc. 2024-24419 Filed 10-21-24; 8:45 am]

BILLING CODE 4312-52-P